DEPARTMENT OF ENERGY

Federal Energy Regulatory Commission

[Project No. 2153-066]

Notice of Intent To Prepare an Environmental Assessment; United Water Conservation District

On May 26, 2020, as supplemented on September 7, 2021, February 2, 2022, September 8, 2022, January 3, 2024, and September 30, 2024 United Water Conservation District (UWCD) filed a non-capacity amendment application for the Santa Felicia Project No. 2153 (project). The project is located on Piru Creek in Ventura County, California. The project occupies federal lands administered by the U.S. Forest Service.

The purpose of the amendment application is to implement the Santa Felicia Dam Safety Improvement Project. The Dam Safety Improvement Project proposes to replace the existing outlet works and modify the existing spillway and dam to address the potential for failure under seismic loading conditions and increase the conveyance capacity to sufficiently pass the inflow design flood. On June 1, 2020, the Commission issued a public notice of UWCD's request for a license amendment soliciting comments, motions to intervene, and protests. No comments, motions to intervene, or protests were received.

This notice identifies Commission staff's intention to prepare an environmental assessment (EA) for the project.¹ Commission staff plans to issue an EA by March 7, 2025. Revisions to the schedule may be made as appropriate. The EA will be issued for a 30-day comment period. All comments filed on the EA will be reviewed by staff and considered in the Commission's final decision on the proceeding.

¹ In accordance with the Council on Environmental Quality's regulations, the unique identification number for documents relating to this environmental review is EAXX-019-20-000-1737538045. 40 CFR 1501.5(c)(4) (2024).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to David Rudisail at (202) 502-6376 or David.rudisail@ferc.gov.

Dated: January 24, 2025.
Debbie-Anne A. Reese,
Secretary.

[FR Doc. 2025-01987 Filed 1-30-25; 8:45 am]

BILLING CODE 6717-01-P